DEPARTMENT OF TRANSPORTATION

Federal Railroad Administration

Notice of Availability of the Final Environmental Impact Report/Environmental Impact Statement, Section 4(f) Evaluation and Draft General Conformity Determination for the California High-Speed Train System Fresno to Bakersfield Section

AGENCY: Federal Railroad Administration (FRA), Department of Transportation (DOT).

ACTION: Notice.

SUMMARY: FRA is providing this notice to advise the public that FRA is issuing a Final Environmental Impact Statement (EIS) and Section 4(f) Evaluation for the California High-Speed Train (HST) System Fresno to Bakersfield Section (Project). FRA is also making a Draft General Conformity Determination for the Project available for public review and comment. FRA is the lead Federal agency and the California High Speed Rail Authority (Authority) is the lead state agency for the environmental review process. The agencies have prepared the Final EIS consistent with federal law and also to serve as an Environmental Impact Report (EIR) in compliance with the California Environmental Quality Act (CEQA) and CEQA Guidelines. The U.S. Army Corps of Engineers (USACE) and Surface Transportation Board (STB) served as Cooperating Agencies for the preparation of this Final EIS.

DATES: The Final EIS and Section 4(f) Evaluation are being made available to the public for a 30-day period according to 40 CFR 1506.10 prior to final FRA action. Written comments on the Draft Conformity Determination and Section 4(f) Evaluation for the California HST Project Fresno to Bakersfield Section may be sent during the 30-day period, to Ms. Stephanie Perez-Arrieta at the contact address below. The 30-day period commences on the date the U.S. Environmental Protection Agency's notice of availability is published in the Federal Register.

ADDRESSES: See SUPPLEMENTARY INFORMATION section for addresses where copies of the Final EIS, Section 4(f) Evaluation, and Draft General Conformity Determination are available online at the FRA's Web site: http://www.fra.dot.gov/Page/P0468 and the Authority's web site: http://www.hsr.ca.gov/Programs/Environmental_Planning/index.html. Copies are also available for viewing at the addresses available in the SUPPLEMENTARY INFORMATION section.

FOR FURTHER INFORMATION CONTACT: Ms. Stephanie Perez-Arrieta, Environmental Protection Specialist, Office of Railroad Policy and Development, Federal Railroad Administration, U.S., Department of Transportation, 1200 New Jersey Avenue SE., MS-20, Washington, DC 20590 (telephone: 202-493-0388).

SUPPLEMENTARY INFORMATION: Once completed, the California HST system will provide intercity, high-speed passenger rail service on more than 800 miles of tracks throughout California, connecting the major population centers of Sacramento, the San Francisco Bay Area, the Central Valley, Los Angeles, the Inland Empire, Orange County, and San Diego. It will use state-of-the-art, electrically powered, high-speed, steel-wheel-on-steel-rail technology, including contemporary safety, signaling, and automated train-control systems, with trains capable of operating up to 220 miles per hour (mph) over a fully graded-separated, dedicated double track alignment. The HST System is comprised of multiple sections, one of which is the Fresno to Bakersfield Section analyzed in the Final EIS.

The Final EIS describes the potential environmental impacts, both adverse and beneficial, of the Fresno to Bakersfield Project Section, identifies appropriate measures to mitigate adverse impacts, and identifies the agencies” preferred alternative. The approximately 114-mile-long Fresno to Bakersfield Section is a critical Phase 1 link connecting to the Merced to Fresno Section and Bay Area HST Sections to the north and the Bakersfield to Palmdale and Palmdale to Los Angeles HST Sections to the south. This project-level EIS tiers off of the Statewide Program EIS published in 2005 and the Bay area to Central Valley Program EIS published in 2008 and builds on the earlier decisions and Program EISs.

In August 2011, FRA issued a Draft EIS and circulated the document for a 60-day public and agency review and comment period. In July 2012, FRA issued a Supplemental Draft EIS for a 90-day public and agency review and comment period. Both the Draft and Supplemental Draft EISs analyzed a No Action Alternative and various Action Alternatives for the construction and operation of the California HST Project Fresno to Bakersfield Section, including alignment alternatives and station locations. FRA and the Authority convened three public hearings for the Draft EIS in Fresno, Hanford, and Bakersfield in September 2011, and three additional public hearings for the Supplemental Draft EIS in Fresno, Hanford, and Bakersfield in August 2012.

Consistent with the provisions of Section 102(2)(c) of the National Environmental Policy Act (NEPA) of 1969 (42 U.S.C. 4321 et seq.), the Council on Environmental Quality (CEQ) regulations implementing NEPA (40 CFR parts 1500 to 1508), FRA's Procedures for Considering Environmental Impacts (Environmental Procedures) (64 FR 28545, May 26, 1999), the Final EIS evaluates the potential environmental effects associated with Action Alternatives and the No Action Alternative, identifies appropriate mitigation measures to minimize the potential environmental impacts, and identifies a preferred alternative. The FRA, Authority, and Cooperating Agencies considered the entire record and the potential for environmental impact in identifying the Preferred Alternative. Additionally, the Final EIS includes FRA's Section 4(f) Evaluation, which provides the supporting analysis to comply with 49 U.S.C. 303 and FRA's Environmental Procedures.

FRA is also issuing a Draft General Conformity Determination for public and agency comment. The Draft General Conformity Determination has been prepared pursuant to 40 CFR part 93, subpart B, which establishes the process for complying with the general conformity requirements of the Clean Air Act. Consistent with those regulations, FRA is making the Draft Conformity Determination available for public review and comment. Analysis of the Project's potential emissions found that construction period emissions would exceed the General Conformity de minimis threshold for Nitrogen Dioxide (NOX) and volatile organic compounds (VOC), a precursor for ozone. However, operation of the Project would result in an overall reduction of regional emissions of all applicable air pollutants and would not cause a localized exeedance of an air quality standard. Conformance of the Project will be accomplished through a Voluntary Emissions Reduction Agreement which will offset the NOX and VOC emissions consistent with applicable regulatory requirements.

Complete hard copies of the Final EIR/EIS, Section 4(f) Evaluation, and the Draft General Conformity Determination are available for viewing at the following locations:

• California High-Speed Rail Authority, 770 L Street, Suite 800, Sacramento, CA

• Federal Railroad Administration, 1200 New Jersey Avenue SE., Washington, DC

• California High-Speed Rail Authority, 2550 Mariposa Mall, Suite 3015, Fresno, CA

• Fresno Public Library, Central, 2420 Mariposa Avenue, Fresno, CA

• Kings County Library, Corcoran, 1001-A Chittenden Avenue, Corcoran, CA

• Kings County Library, Hanford, 401 N. Douty Street, Hanford, CA

• Tulare Public Library, 475 North M Street Tulare, CA

• Allensworth Community Center, 8123 Avenue 36, Allensworth, CA

• Kern County Library, Beale Memorial, 701 Truxtun Avenue, Bakersfield, CA

• Kern County Library, Shafter, 236 James Street, Shafter, CA

• Kern County Library, Wasco, 1102 7th Street, Wasco, CA

Summary chapters and complete electronic copies are available for viewing at the following locations:

• Allensworth

• Allensworth Community Services District, 3336 Road 84

• Armona

• Kings County Library, 11115 C Street

• Bakersfield

• City of Bakersfield Planning Department, 1715 Chester Avenue

—Kern County Library, Baker Branch, 1400 Baker Street

—Kern County Library, Northeast Branch, 3725 Columbus Street

—Dr. Martin Luther King Jr. Community Center, 1000 South Owens Street

—Greenacres Community Center, 2014 Calloway Drive

—Community Action Partnership of Kern, 300 19th Street

—Richard Prado East Bakersfield Senior Center, 2101 Ridge Road

• Clovis

—Fresno County Public Library, Clovis Regional Library, 1155 Fifth Street

• Corcoran

—City of Corcoran Planning Department, 832 Whitley Avenue

• Delano

—Kern County Library, Delano Branch, 925 10th Avenue

• Fresno

—City of Fresno Planning Department, 2220 Tulare Street #6

—Fresno County Public Library, Cedar-Clinton, 4150 E. Clinton Street

—Fresno County Public Library, Fig Garden, 3071 W. Bullard Avenue

—Fresno County Public Library, Mosqueda Center, 4670 E. Butler Avenue

—Fresno County Public Library, Sunnyside, 5566 E. Kings Canyon Road

—Fresno County Public Library, West Fresno, 188 E. California Avenue

—Fresno County Public Library, Woodward Park, 944 E. Perrin Avenue

—Fresno County Public Library, Senior Resource Center, 2025 E. Dakota Avenue

—Fresno County—Clerk to the Board, 2281 Tulare Street #301

—Einstein Neighborhood Center, 3566 E. Dakota Avenue

—Fresno Interdenominational Refugee Ministries (F.I.R.M.), 1940 N. Fresno Street

—Mary Ella Brown Community Center, 1350 E. Annadale Avenue

—Lafayette Neighborhood Center, 1516 E. Princeton Avenue

—Mosqueda Community Center, 3670 E. Butler Avenue

—Ted C. Wills Community Center, 770 N. San Pablo Avenue

—Dickey Development Center, 1515 E. Divisadero Street

—Frank H. Ball Community Center, 760 Mayor Avenue

• Hanford

—City of Hanford Planning Department, 317 N. Douty Street

—Hanford Adult School, 905 Campus Drive

—Kings Community Action Organization, 1130 N. 11th Avenue

—Housing Authority of Kings County, 670 S. Irwin Street

• Laton

—Fresno County Public Library, Laton Branch, 6313 DeWoody Street

—Laton Community Services District, 6501 E. Latonia Avenue

• Lemoore

—Kings County Library, Lemoore Branch, 457 C Street

• Pinedale

—Fresno County Public Library, Pinedale, 7170 N. San Pablo Street

—Pinedale Community Center, 7170 N. San Pablo Street

• Sacramento

—Sacramento Public Library, 8281 I Street

• Shafter

—City of Shafter Planning Department, 336 Pacific Avenue

• Tulare

—City of Tulare Planning Department, 411 E. Kern Avenue

• Visalia

—City of Visalia Planning Department, 707 W. Acequia Avenue

—Tulare County Library, Visalia Branch, 200 West Oak Avenue

• Wasco

—City of Wasco Planning Department, 746 8th Street

—Wasco Housing Authority, 750 H Street

A full list of other federal agencies, state agencies, and selected interested parties that have received summary chapters with complete electronic copies of the Final EIR/EIS is included in Chapter 9 of the Final EIR/EIS, which can be accessed electronically on FRA's Web site and Authority's Web site provided above.

Issued in Washington, DC, on April 23, 2014.
Corey Hill,
Director, Office of Passenger and Freight Programs.

[FR Doc. 2014-09585 Filed 4-24-14; 8:45 am]

BILLING CODE 4910-06-P